NATIONAL AERONAUTICS AND SPACE ADMINISTRATION

[Notice 04-088]

NASA Space Science Advisory Committee, Astronomical Search for Origins and Planetary Systems Subcommittee; Meeting

AGENCY: National Aeronautics and Space Administration (NASA).

ACTION: Notice of Meeting.

SUMMARY: The National Aeronautics and Space Administration announces a meeting of the NASA Space Science Advisory Committee (SScAC), Astronomical Search for Origins and Planetary Systems Subcommittee (OS).

DATES: Monday, July 26, 2004, 9 a.m. to 6 p.m., Tuesday, July 27, 2004, 8:30 a.m. to 5 p.m., and Wednesday, July 28, 2004, 8:30 a.m. to Noon.

ADDRESSES: Shelter Pointe Hotel and Marina, 1551 Island Drive, San Diego, CA 92106.

FOR FURTHER INFORMATION CONTACT: Dr. Hashima Hasan, Office of Space Science, National Aeronautics and Space Administration, Washington, DC 20546, 202/395-0710, hhasan@hq.nasa.gov.

SUPPLEMENTARY INFORMATION: The meeting will be open to the public up to the seating capacity of the room. The agenda for the meeting is as follows:

• Astronomy and Physics Director's Report on Astronomy and Physics Programs.

• Theme Scientist's Report on Origins Theme Program.

• James Webb Space Telescope, Stratospheric Observatory for Infrared Astronomy, and Navigator Program Mission Updates.

It is imperative that the meeting be held on these dates to accommodate the scheduling priorities of the key participants. Visitors will be requested to sign a visitor's register.

R. Andrew Falcon,
Advisory Committee Management Officer, National Aeronautics and Space Administration.

[FR Doc. 04-16068 Filed 7-14-04; 8:45 am]

BILLING CODE 7510-01-P